ENVIRONMENTAL PROTECTION AGENCY

[OPP-34225G; FRL-6826-2]

Diazinon Products Cancellation Order

AGENCY: Environmental Protection Agency (EPA).

ACTION: Notice.

SUMMARY: This notice announces EPA's cancellation order for the product and use cancellations as requested by companies (hereinafter collectively referred to as the “end-use products registrants”) that hold the registrations of pesticide end-use products containing the active ingredient diazinon and accepted by EPA, pursuant to section 6(f) of the Federal Insecticide, Fungicide, and Rodenticide Act (FIFRA). This order follows up a January 4, 2002 notice of receipt from the end-use products registrants, of requests for cancellations and or amendments of their diazinon product registrations to terminate all indoor uses, certain agricultural uses and certain outdoor non-agricultural uses. In the January 4, 2002 notice, EPA indicated that it would issue an order granting the voluntary product and use registration cancellations unless the Agency received any substantive comment within the comment period that would merit its further review of these requests. The Agency did not receive any comments. Accordingly, EPA hereby issues in this notice a cancellation order granting the requested cancellations. Any distribution, sale, or use of the products subject to this cancellation order is only permitted in accordance with the terms of the existing stocks provisions of this cancellation order.

DATES: The cancellations are effective March 6, 2002.

FOR FURTHER INFORMATION CONTACT: John Hebert, Special Review and Reregistration Division (7508C), Office of Pesticide Programs, Environmental Protection Agency, 1200 Pennsylvania Ave., NW., Washington, DC 20460; telephone number: 703-308-6249; fax number: 703-308-7042; e-mail address: hebert.john@epa.gov.

SUPPLEMENTARY INFORMATION:

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. To access information about the risk assessment for diazinon, go to the Home Page for the Office of Pesticide Programs or go directly to http://www.epa.gov/pesticides/op/diazinon.htm.

2. In person. The Agency has established an official record for this action under docket control number OPP-34225. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

Certain registrants requested in letters dated July, August, September, and October 2001, that their diazinon registrations be amended to delete all indoor uses, certain agricultural uses, and any other uses that the registrants do not wish to maintain. The requests also included deletions of outdoor non-agricultural uses from the labeling of certain end-use products so that such products would be labeled for agricultural uses only. Similarly, other diazinon end-use registrants requested voluntary cancellation of their diazinon end-use product registrations with indoor use and/or certain outdoor non-agricultural uses, and any other uses that the registrants do not wish to maintain. EPA announced its receipt of these above-mentioned cancellation requests in the Federal Register of January 4, 2002 (67 FR 587) (FRL-6812-6).

These requested cancellations and amendments are consistent with the requests in December 2000 by the manufacturers of diazinon technical products, and EPA's approval of such requests, to terminate all indoor uses and certain agricultural uses from their diazinon product registrations because of EPA's concern with the potential exposure risk, especially to children. The indoor uses and agricultural uses subject to cancellation are identified in List 1 below:

List 1--Uses Requested for Termination

Indoor uses: Pet collars, or inside any structure or vehicle, vessel, or aircraft or any enclosed area, and/or on any contents therein (except mushroom houses), including but not limited to food/feed handling establishments, greenhouses, schools, residences, commercial buildings, museums, sports facilities, stores, warehouses and hospitals.

Agricultural uses: Alfalfa, bananas*, Bermuda grass, dried beans, dried peas, celery*, red chicory (radicchio), citrus, clover, coffee, cotton, cowpeas, cucumbers*, dandelions, forestry (ground squirrel/rodent burrow dust stations for public health use)*, kiwi, lespedeza, parsley*, parsnips*, pastures, peppers*, potatoes (Irish and sweet)*, sheep, sorghum, squash (winter and summer)*, rangeland, Swiss chard*, tobacco, and turnips (roots and tops)*. (The Agency does not intend to disapprove or cancel any 24(c) Special Local Need registrations issued for the uses designated with an asterisk).

In today's Cancellation Order, EPA is approving the registrants' requested cancellations and amendments of their diazinon end-use products registrations to terminate all uses identified in List 1.

B. Requests for Voluntary Cancellation of End-Use Products

The end-use product registrants for which cancellation was requested are identified in the following Table 1.

Table 1.—End-Use Product Registration Cancellation Requests
Company | Registration Number | Product
Bonide Products, Inc. | 4-191 4-204 4-209 4-272 4-284 4-359 4-411 4-416 4-417 | Bonide Lawn and Garden Insect Control with Diazinon 25% EC Bonide Ant Dust with Diazinon Bonide Diazinon 2 1/2 G Bonide Diazinon Soil Insect Granules Bonide Garden Soil Insecticide Diazinon 5% G Bonide Diazinon 4E Insecticide Bonide Diazinon Insect Control Ready-To-Use Bonide Lawn and Garden Spray with Diazinon Bonide Ant and Soil Insect Granules
The Scotts Company | 239-2350 239-2602 239-2659 239-2660 | Ortho Fruit and Vegetable Insect Control Ortho Home Pest Insect Killer Formula II Ortho Diazinon Reacy Spray Insect Killer Ortho Diazinon Lock'n Spray Insect Killer
Value Garden Supply, LLC | 769-509 | Diazinon 4-E
Southern Agricultural Insecticides, Inc. | 829-261 | SA-50 Brand Diazinon 4E Insecticide
Agriliance | 1381-151 1381-164 | Imperial 5% Diazinon Granular Insect Control Agrox DL Plus
Voluntary Purchasing Groups, Inc. | 7401-86 7401-96 7401-99 7401-102 7401-103 7401-104 7401-105 7401-110 7401-214 7401-223 7401-236 7401-262 7401-277 7401-278 7401-295 7401-442 | Ferti-lome® Worm Spray Ferti-lome® Lawn Insect Killer Ferti-lome® Special Cricket Spray Ferti-lome® Bagworm Spray Ferti-lome® Diazinon Chinch Bug Spray Ferti-lome® Vegetable Spray Ferti-lome® Aphid Spray Ferti-lome® Liquid Rose Spray Ferti-lome® Improved Rose Dust Ferti-lome® White Grub Spray Ferti-lome® White Grub Killer Ferti-lome® Lawn Food Containing Diazinon Ferti-lome® Wasp and Hornet Killer Ferti-lome® Ant and Roach Spray Ferti-lome® Garden Dust Hi-Yield Diazinon 4E Insect Spray
Gowan Company | 10163-68 10163-103 | Prokil Diazinon 4EC Gowan Diazinon 50WP
Lesco | 10404-11 | Diazinon 500 Insecticide
Platte Chemical Co. | 34707-229 34704-288 | Clean Drop Diazinon 4E Clean Drop Diazinon Seed Protectant
Hi-Yield Chemical Company | 34911-3 34911-14 34911-15 34911-22 34911-24 | Hi-Yield® Diazinon Insect Spray Hi-Yield® Diazinon Dust Hi-Yield® Ready-to-Use Professional Kill-A-Bug Hi-Yield® General Purpose Garden Dust Hi-Yield® Imported Fire Ant Killer
Control Solutions Inc. | 53883-47 | Martin's Diazinon Household Insect Spray Ready to Use

EPA did not receive any substantive comments that would merit further review expressing a need of diazinon products for indoor use. Accordingly, the Agency is issuing an order in this notice canceling the registrations identified in Table 1, as requested by the end-use products registrants.

C. Requests for Voluntary Amendments of End-Use Product Registrations to Terminate Certain Uses

Pursuant to section 6(f)(1)(A) of FIFRA, many end-use products registrants submitted requests to amend a number of their diazinon end-use product registrations to terminate the uses identified in List 1 of this notice or any other uses as specified for each product in the September 13, 2001 Diazinon 6(f) Notice and reiterated in Table 2 below. EPA did not receive any comments expressing a need for any of the canceled uses. The registrations for which amendments to terminate specific uses were requested are identified in the following Table 2:

Table 2.—End-Use Product Registration Amendment Requests
Company | Registration Number | Product Name: Use Deletions
Value Garden Supply, LLC | 192-161 | Dexol Diazinon 5% Granules: Celery
Riverdale | 228-177 | Riverdale 5% Diazinon Insect Killer Granules: Celery
The Scotts Company | 239-2364 239-2619 239-2643 | Ortho Diazinon Insect Spray: Almonds Ortho Hi-Power Ant, Roach, and Spider Spray Formula II: Indoor Uses Diazinon Insect Spray 2: Almonds
Value Garden Supply, LLC | 769-689 | SMCP Diazinon AG500: Lawn Pest Control, Nuisance Pests in Outside Areas, and Barrier Strips
| 769-841 | Miller Diazinon AG Insecticide: Field and Forage Uses, Mushroom Houses, Olives, Figs, Filberts and Pineapples
| 769-954 | AllPro Diazinon 50 WP Insecticide: Lawn Uses, Nuisance Pests, and Grassland Pests
Voluntary Purchasing Groups, Inc. | 7401-213 | Hi-Yield® Diazinon AG500 Insecticide: Almonds, celery, cucumbers, parsley, parsnips, peppers, potatoes (Irish), squash (summer and winter), sweet potatoes, swiss chard, turnips, grassland insects, and lawn pest control
| 7401-216 | Ferti-lome® Diazinon Insect Spray: Almonds
| 7401-441 | Ferti-lome® Diazinon Water Base Concentrate: Almonds
Gowan Company | 10163-100 | Diazinon 4E: Beans, cucumbers, parsley, parsnips, peas, peppers, potatoes, squash (summer and winter), sweet potatoes, swiss chard, turnips, indoor ornamentals, lawn pest control, and nuisance pests
| 10163-104 | Diazinon 14G: Beans, celery, cucumbers, parsley, peas, peppers, potatoes, squash (summer and winter), sweet potatoes, swiss chard, turnips, and indoor ornamentals
| 10163-116 | Diazinon 5G: Beans, celery, cucumbers, parsley, peas, peppers, potatoes, squash (summer and winter), sweet potatoes, swiss chard, turnips, indoor ornamentals, and lawn pest control
| 10163-163 | Diazinon 50-WSB: Beans, cucumbers, parsley, parsnips, peas, peppers, potatoes, squash (summer and winter), sweet potatoes, swiss chard, turnips, grassland insects, livestock Insects, fly control in livestock structures, and indoor ornamentals
| 10163-241 | Diazinon 5F: Beans, cucumbers, parsley, parsnips, peas, peppers, potatoes, squash (summer and winter), sweet potatoes, swiss chard, turnips, grassland insects, lawn pest control, nuisance pests, and indoor ornamentals
Hi-Yield Chemical Co. | 34911-13 | Hi-Yield 5% Diazinon Insect Killer Granules: Celery
Control Solutions Inc. | 53883-45 53883-51 | Martin's Diazinon 25E Lawn and Garden Insect Control: Almonds and Walnuts Martin's 5% Diazinon Granules: Celery

III. Cancellation Order

Pursuant to section 6(f) of FIFRA, EPA hereby approves the requested cancellations of diazinon product and use registrations identified in Tables 1 and 2 of this Notice. Accordingly, the Agency orders that the diazinon end-use product registrations identified in Table 1 are hereby canceled. The Agency also orders that all of the uses identified in List 1 and all other uses (including specific outdoor non-agricultural uses) identified for deletion in Table 2 are hereby canceled from the end-use product registrations identified in Table 2. Any distribution, sale, or use of existing stocks of the products identified in Tables 1 and 2 in a manner inconsistent with the terms of this Order or the Existing Stock Provisions in Unit IV. of this Notice will be considered a violation of section 12(a)(2)(K) of FIFRA and/or section 12(a)(1)(A) of FIFRA.

IV. Existing Stocks Provisions

For purposes of this Order, the term “existing stocks” is defined, pursuant to EPA's existing stocks policy published in the Federal Register of June 26, 1991 (56 FR 29362), as those stocks of a registered pesticide product which are currently in the United States and which have been packaged, labeled, and released for shipment prior to the effective date of the cancellation or amendment. The existing stocks provisions of this Cancellation Order are as follows:

EPA intends that the cancellation order includes the following existing stocks provisions:

1. Distribution or sale of products bearing instructions for use on agricultural crops. The distribution or sale of existing stocks by the registrant of any product listed in Table 1 or 2 that bears instructions for use on the agricultural crops identified in List 1 will not be lawful under FIFRA 1 year after the effective date of the cancellation order, except for the purposes of shipping such stocks for export consistent with section 17 of FIFRA or for proper disposal. Persons other than the registrant may continue to sell or distribute the existing stocks of any product listed in Table 2 that bears instructions for any of the agricultural uses identified in List 1 after the effective date of the cancellation order.

2. Distribution or sale of products bearing instructions for use on outdoor non-agricultural sites. The distribution or sale of existing stocks by the registrant of any product listed in Table 1 or 2 that bears instructions for use on outdoor non-agricultural sites will not be lawful under FIFRA 1 year after the effective date of the cancellation order, except for the purposes of shipping such stocks for export consistent with section 17 of FIFRA or for proper disposal. Persons other than the registrant may continue to sell or distribute the existing stocks of any product listed in Table 1 or 2 that bears instructions for use on outdoor non-agricultural sites after the effective date of the cancellation order.

3. Distribution or sale of products bearing instructions for use on indoor sites. The distribution or sale of existing stocks by the registrant of any product listed in Table 1 or 2 that bears instructions for use at or on any indoor sites (except mushroom houses), shall not be lawful under FIFRA as of the effective date of the cancellation order, except for the purposes of shipping such stocks for export consistent with section 17 of FIFRA, or for proper disposal.

4. Retail and other distribution or sale of existing stock of products for indoor use. The distribution or sale of existing stocks by any person other than the registrants of products listed in Table 1 or 2 bearing instructions for any indoor uses except mushroom houses will not be lawful under FIFRA after December 31, 2002, except for the purposes of shipping stocks for export consistent with section 17 of FIFRA or for proper disposal.

5. Use of existing stocks. EPA intends to permit the use of existing stocks of products listed in Table 1 or 2 until such stocks are exhausted, provided such use is in accordance with the existing labeling of that product.

List of Subjects

Environmental protection, Pesticides and pests.

Dated: February 22, 2002.
Lois A. Rossi,
Director, Special Review and Registration Division, Office of Pesticide Programs.

[FR Doc. 02-5326 Filed 3-5-02; 8:45 am]

BILLING CODE 6560-50-S